DEPARTMENT OF THE INTERIOR

Bureau of Indian Affairs

Education Facilities Replacement Construction Priorities List as of FY 2000

AGENCY: Bureau of Indian Affairs, Interior.

ACTION: Notice.

SUMMARY: The Bureau of Indian Affairs is publishing the Education Facilities Replacement Construction Priority List as of FY 2000 in the Federal Register as required by statute. Construction funding is not yet currently available for all projects on the list. The Bureau will use this list to determine the order in which Congressional appropriations are requested for funding education facilities replacement construction projects.

FOR FURTHER INFORMATION CONTACT: Questions regarding the Education Facilities Construction Priority List may be addressed to Dr. Kenneth G. Ross, Assistant Director, Office of Indian Education Programs, 201 Third St. NW, Suite 510, Albuquerque, New Mexico 87102, (505) 346-6544/5/6, Fax (505) 346-6553.

SUPPLEMENTARY INFORMATION: Publication of the Education Facilities Replacement Construction Priority List (Priority List) in the Federal Register is required by 25 U.S.C. 2005(c) at the time any budget request for school construction is presented. In a Senate Report accompanying an early version of the FY 2000 Interior and Related Agencies Appropriations Act, S. Rept. No. 106-99, p. 55 (1999), the Committee on Appropriations stated that it anticipates the release of a new replacement list during the FY 2001 appropriations process. In 1998, the Bureau of Indian Affairs (BIA or Bureau) had begun preparations for developing a new Priority List, including the acceptance of applications from tribes who wished to have schools placed on the Priority List.

Schools placed on the “Education Facilities Construction Priority List as of FY 1993” that are not yet fully funded for construction, project Nos. 13, 15 and 16, did not have to submit applications for ranking on the new Priority List and are retained, in order, at the top of the FY 2000 list as project Nos. 1 through 3. The FY 1993 Priority List was published in the Federal Register on January 6, 1993 (58 FR 579). Education Facilities Replacement Construction projects will be funded for construction in the order in which they are ranked as appropriations become available, unless a school is not ready for the next phase of funding. In accordance with Congressional directives, the projects do not provide for new school starts nor grade level expansions.

The Conference Report for the FY 1992 Interior Related Agencies Appropriations Act, H. Conf. Rept. No. 102-256, p. 46 (1991), indicated that Congress wanted the Department to revise the priority ranking process for new school construction. The Bureau revised the process and developed draft revised instructions and criteria, complying with the 1991 Conference Report requirements that the BIA should emphasize tribal consultation and improve the objectivity of the ranking process, provide continuity to the priority ranking list, and provide procedures for handling emergency needs.

The Bureau published a Notice in the Federal Register on November 17, 1998 (63 FR 63942), requesting comments on the draft revised instructions and criteria, entitled “Instructions and Application for Replacement School Construction, 1999.” The new instructions governed the priority ranking process for construction of replacement education facilities and the criteria used in ranking applications. Comments were received relating to administrative requirements and responsibilities; definitions of ranking criteria; evaluation of applications; and cost-sharing. The comments were reviewed and incorporated into the final instructions and criteria as appropriate by a team comprised of tribal representatives and BIA employees from the Office of Indian Education Programs and the Office of Facilities Management and Construction. The Bureau proceeded with using the final revised application instructions and criteria on February 26, 1999.

Copies of the final revised instructions and criteria were sent to all BIA schools and schools that receive BIA funds under contract or grant (Catalog of Federal Domestic Assistance Program Number: 15.062 “Replacement and Repair of Indian Schools”), and the Bureau held tribal consultation meetings on the revised process. BIA's Office of Indian Education Programs Education Line Officers offered training to applicants at all schools under their administrative jurisdiction on how to complete applications using the revised instructions and ranking criteria. Tribes and BIA-funded school boards received advance, written notice of training session dates, times and locations for tribes and schools under their respective jurisdictions. The Bureau published another Notice in the Federal Register on March 29, 1999 (64 FR 14936), calling for applications based on the revised instructions and ranking criteria. The Bureau accepted applications beginning June 28, 1999 and used the criteria in the revised instructions to review and evaluate all applications that were received on or before the deadline of July 16, 1999. These applications were ranked according to the new criteria and 10 schools were placed on the FY 2000 Priority List.

The Committee on Appropriations also recommended that the BIA establish a demonstration project to allow tribes with schools on the replacement list to apply for Federal funding with the guarantee of a cost share from the tribe, S. Rept. No. 106-99, p. 54 (1999). Accordingly, in the priority ranking process for the Education Facilities Replacement Construction Priority List as of FY 2000, applicants indicated whether they would cost share. Congress further stated that tribes may share the cost of construction of their school, identify non-Bureau funding to match or supplement Bureau funding, or pay future operations costs in exchange for the full funding of school construction costs earlier than they might hope to receive it under the Priority List.

Use of the term “cost share” after the name of an education facility replacement construction project on the FY 2000 Priority List means that a tribe has submitted a tribal council resolution supporting a long-term commitment to cost sharing, and has specified the exact nature of its monetary commitment or contribution by completing Section II of the application form, which commits the tribe to share in the costs of school facility replacement in order to expedite construction.

This notice is published under authority delegated by the Secretary of the Interior to the Assistant Secretary for Indian Affairs in the Departmental Manual at 209 DM 8.

Education Facilities Replacement Construction Priority List as of FY 2000

1. Tuba City Boarding School

2. Second Mesa Day School

3. Zia Day School

4. Baca/Thoreau (Dlo'ay Azhi) Consolidated Community School

5. Lummi Tribal School

6. Wingate Elementary School

7. Polacca Day School

8. Holbrook Dormitory

9. Santa Fe Indian School (Cost Share*)

* Tribe or tribal organization commits to cost share.

10. Ojibwa Indian School

11. Conehatta Elementary School (Cost Share*)

12. Paschal Sherman Indian School

13. Kayenta Boarding School

Dated: January 24, 2000.
Kevin Gover,
Assistant Secretary—Indian Affairs.

[FR Doc. 00-2035 Filed 1-28-00; 8:45 am]

BILLING CODE 4310-02-P